DEPARTMENT OF JUSTICE

Antitrust Division

Notice Pursuant to the National Cooperative Research and Production Act of 1993—Southwest Research Institute (“SwRI”): Fuel/Water Separation Characteristics Program

Notice is hereby given that, on December 17, 2003, pursuant to Section 6(a) of the National Cooperative Research and Production Act of 1993, 15 U.S.C. 4301 et seq. (“the Act”), Southwest Research Institute (“SwRI”): Fuel/Water Separation Characteristics Program has filed written notifications simultaneously with the Attorney General and the Federal Trade Commission disclosing changes in its project status and membership. The notifications were filed for the purpose of extending the Act's provisions limiting the recovery of antitrust plaintiffs to actual damages under specified circumstances. Specifically, performance was reinstated and the period was initially extended to October 1, 2003; the period of performance has now been extended to July 1, 2004. In addition, Lydall Filtration/Separation, Inc., Rochester, NH, has become a member.

No other changes have been made in either the membership or planned activity of the group research project. Membership in this group research project remains open, and Southwest Research Institute (“SwRI”): Fuel/Water Separation Characteristics Program intends to file additional written notification disclosing all changes in membership.

On March 10, 2000, Southwest Research Institute (“SwRI”): Fuel/Water Separation Characteristics Program filed its original notification pursuant to Section 6(a) of the Act. The Department of Justice published a notice in the Federal Register pursuant to section 6(b) of the Act on November 2, 2000 (65 FR 65882).

The last notification was filed with the Department on June 11, 2001. A notice was published in the Federal Register pursuant to section 6(b) of the Act on July 30, 2001 (66 FR 39337).

Dorothy B. Fountain,
Deputy Director of Operations, Antitrust Division.

[FR Doc. 04-1158 Filed 1-20-04; 8:45 am]

BILLING CODE 4410-11-M